DEPARTMENT OF ENERGY

Federal Energy Regulatory Commission

[Docket No. EL00-82-000]

Niagara Mohawk Energy Marketing, Inc., Complainant, v. New York Independent System Operator, Respondent; Notice of Filing

June 13, 2000.

Take notice that on June 12, 2000, Niagara Mohawk Energy Marketing, Inc. (NMEM), tendered for filing a complaint pursuant to Section 205 of the Federal Power Act against the New York Independent System Operator (NYISO) alleging that the NYISO has unlawfully denied NMEM transmission service in connection with exports of power from the New York Control Area. NMEM alleges the denial of service was the result of a flaw in the NYISO's Security Constrained Unit Commitment (SCUC) scheduling system and that the NYISO's current plans for addressing flaws in its scheduling software do not address the SCUC problem that cause NMEM's export transactions to be rejected. NMEM alleges it has suffered monetary damages to date as a result of this problem and that NMEM and other transmission customers face the potential for very significant damages during the upcoming summer period. Accordingly, NMEM requests fast track processing of its complaint and the imposition of a stay pending final Commission action on NMEM's Complaint.

Copies of the filing were upon the NYISO and other interested parties.

Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions and protests should be filed on or before June 19, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance). Answer to the complaint shall be due on or before June 19, 2000.

Linwood A. Watson, Jr.,
Acting Secretary.

[FR Doc. 00-15350 Filed 6-16-00; 8:45 am]

BILLING CODE 6717-01-M